DEPARTMENT OF ENERGY

Federal Energy Regulatory Commission

[Docket Nos. RP97-369-018 and RP98-54-038]

Colorado Interstate Gas Company; Notice of Refund Report

May 23, 2003.

Take notice that on May 19, 2003, Colorado Interstate Gas Company (CIG) filed its sixth refund report in Docket Nos. RP97-369 and RP98-54 et al. CIG states that this filing and refund was made to comply with the Commission's Order of September 10, 1997. CIG states that refunds were paid by CIG on May 14, 2003.

The May 19, 2003, refund report summarizes the refunds made as of that date by CIG for Kansas ad valorem tax overpayments, pursuant to the Commission's Order dated September 10, 1997 and Settlement Order dated November 21, 2000. Lump sum cash refunds were made by CIG to its former jurisdictional sales customers. In instances where payment has not been made within thirty (30) days of receipt from the producers, appropriate interest will be computed as provided in the Order.

CIG states that copies of CIG's filing will be served on all parties of record in Docket No. RP98-54-000, et al.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 30, 2003.

Magalie R. Salas,
Secretary.

[FR Doc. 03-13628 Filed 5-30-03; 8:45 am]

BILLING CODE 6717-01-P